DEPARTMENT OF HOMELAND SECURITY

Federal Emergency Management Agency

[Docket ID FEMA-2013-0002; Internal Agency Docket No. FEMA-B-1350]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Baldwin | City of Gulf Shores (13-04-3816P) | The Honorable Robert S. Craft, Mayor, City of Gulf Shores, P.O. Box 299, Gulf Shores, AL 36547 | Community Development Department, 1905 West 1st Street, Gulf Shores, AL 36547 | www.msc.fema.gov/lomc | December 6, 2013 | 015005
Baldwin | City of Orange Beach (13-04-5100P) | The Honorable Anthony T. Kennon, Mayor, City of Orange Beach, 4099 Orange Beach Boulevard, Orange Beach, AL 36561 | Community Development Department, 4099 Orange Beach Boulevard, Orange Beach, AL 36561 | www.msc.fema.gov/lomc | December 6, 2013 | 015011
Colbert | City of Muscle Shoals (13-04-4919P) | The Honorable David H. Bradford, Mayor, City of Muscle Shoals, P.O. Box 2624, Muscle Shoals, AL 35662 | Building, License and Zoning Department, 2010 Avalon Avenue, Muscle Shoals, AL 35662 | www.msc.fema.gov/lomc | December 26, 2013 | 010047
Cullman | City of Cullman (13-04-5986P) | The Honorable Max A. Townson, Mayor, City of Cullman, P.O. Box 278, Cullman, AL 35056 | Building Inspection Department, 201 2nd Avenue North, Cullman, AL 35055 | www.msc.fema.gov/lomc | December 26, 2013 | 010209
Jefferson | Unincorporated areas of Jefferson County (13-04-4452P) | The Honorable David Carrington, Chairman, Jefferson County Commission, 716 Richard Arrington Jr. Boulevard North, Birmingham, AL 35263 | Jefferson County Courthouse, Land Development Office, 716 Richard Arrington Jr. Boulevard North, Room 202A, Birmingham, AL 35263 | www.msc.fema.gov/lomc | January 9, 2014 | 010217
Arizona:
Maricopa | City of Glendale (13-09-0441P) | The Honorable Jerry Weiers, Mayor, City of Glendale, 5850 West Glendale Avenue, Glendale, AZ 85301 | City Hall, 5850 West Glendale Avenue, Glendale, AZ 85301 | http://www.r9map.org/Docs/13-09-0441P-040045.pdf | November 1, 2013 | 040045
Maricopa | City of Peoria (13-09-0441P) | The Honorable Bob Barrett, Mayor, City of Peoria, 8401 West Monroe Street, Peoria, AZ 85345 | City Hall, 8401 West Monroe Street, Peoria, AZ 85345 | http://www.r9map.org/Docs/13-09-0441P-040050.pdf | November 1, 2013 | 040050
Maricopa | Unincorporated areas of Maricopa County (13-09-0441P) | The Honorable Andy Kunasek, Chairman, Maricopa County Board of Supervisors, 301 West Jefferson, 10th Floor, Phoenix, AZ 85003 | Maricopa County Flood Control District, 2801 West Durango Street, Phoenix, AZ 85009 | http://www.r9map.org/Docs/13-09-0441P-040037.pdf | November 1, 2013 | 040037
Pima | City of Tucson (13-09-1006P) | The Honorable Jonathan Rothschild, Mayor, City of Tucson, 255 West Alameda, 10th Floor, Tucson, AZ 85701 | Planning and Development Services Division, 201 North Stone Avenue, 1st Floor, Tucson, AZ 85701 | www.msc.fema.gov/lomc | November 28, 2013 | 040076
Pima | Unincorporated areas of Pima County (13-09-1006P) | The Honorable Ramon Valadez, Chairman, Pima County Board of Supervisors, 130 West Congress Street, 11th Floor, Tucson, AZ 85701 | Pima County Flood Control District, 97 East Congress Street, 3rd Floor, Tucson, AZ 85701 | www.msc.fema.gov/lomc | November 28, 2013 | 040073
Yavapai | Unincorporated areas of Yavapai County (12-09-2694P) | The Honorable Chip Davis, Chairman, Yavapai County Board of Supervisors, 10 South 6th Street, Cottonwood, AZ 86326 | Yavapai County Flood Control District, 500 South Marina Street, Prescott, AZ 86303 | www.msc.fema.gov/lomc | December 27, 2013 | 040093
California:
Kern | City of Delano (13-09-2039P) | The Honorable Joe Aguirre, Mayor, City of Delano, P.O. Box 3010, Delano, CA 93216 | Community Development Department, 1015 11th Avenue, Delano, CA 93215 | www.msc.fema.gov/lomc | December 6, 2013 | 060078
Kern | Unincorporated areas of Kern County (13-09-0488P) | The Honorable Mike Maggard, Chairman, Kern County Board of Supervisors, 1115 Truxtun Avenue, 5th Floor, Bakersfield, CA 93301 | Kern County Planning Department, 2700 M Street, Suite 100, Bakersfield, CA 93301 | www.msc.fema.gov/lomc | November 28, 2013 | 060075
Los Angeles | City of Santa Clarita (13-09-1601P) | The Honorable Bob Kellar, Mayor, City of Santa Clarita, 23920 Valencia Boulevard, Santa Clarita, CA 91355 | Public Works Department, 23920 Valencia Boulevard, Santa Clarita, CA 91355 | www.msc.fema.gov/lomc | December 6, 2013 | 060729
Los Angeles | City of Santa Clarita (13-09-2785P) | The Honorable Bob Kellar, Mayor, City of Santa Clarita, 23920 Valencia Boulevard, Santa Clarita, CA 91355 | City Hall, 23920 Valencia Boulevard, Suite 140, Santa Clarita, CA 91355 | www.msc.fema.gov/lomc | January 24, 2014 | 060729
Merced | City of Merced (13-09-0938P) | The Honorable Stan Thurston, Mayor, City of Merced, 678 West 18th Street, Merced, CA 95340 | City Hall, 678 West 18th Street, Merced, CA 95340 | http://www.r9map.org/Docs/13-09-0938P-060191.pdf | October 31, 2013 | 060191
Placer | City of Rocklin (13-09-2062P) | The Honorable Diana Ruslin, Mayor, City of Rocklin, 3970 Rocklin Road, Rocklin, CA 95677 | Engineering Department, 3970 Rocklin Road, Rocklin, CA 95677 | www.msc.fema.gov/lomc | December 13, 2013 | 060242
Placer | Town of Loomis (13-09-2062P) | The Honorable Walt Scherer, Mayor, Town of Loomis, 3665 Taylor Road, Loomis, CA 95650 | Public Works and Engineering Department, 3665 Taylor Road, Loomis, CA 95650 | www.msc.fema.gov/lomc | December 13, 2013 | 060721
Riverside | Unincorporated areas of Riverside County (13-09-2159P) | The Honorable John J. Benoit, Chairman, Riverside County Board of Supervisors, P.O. Box 1647, Riverside, CA 92502 | Riverside County Flood Control and Water Conservation District, 1995 Market Street, Riverside, CA 92502 | www.msc.fema.gov/lomc | November 28, 2013 | 060245
San Bernardino | City of San Bernardino (13-09-1112P) | The Honorable Patrick J. Morris, Mayor, City of San Bernardino, 300 North D Street, 6th Floor, San Bernardino, CA 92418 | Water Department, 399 Chandler Place, San Bernardino, CA 92408 | www.msc.fema.gov/lomc | November 29, 2013 | 060281
San Bernardino | Unincorporated areas of San Bernardino County (13-09-1112P) | The Honorable Janice Rutherford, Chair, San Bernardino County Board of Supervisors, 385 North Arrowhead Avenue, 5th Floor, San Bernardino, CA 92415 | San Bernardino County Public Works Department, 825 East 3rd Street, San Bernardino, CA 92415 | www.msc.fema.gov/lomc | November 29, 2013 | 060270
San Diego | Unincorporated areas of San Diego County (13-09-1959P) | The Honorable Greg Cox, Chairman, San Diego County Board of Supervisors, 1600 Pacific Highway, Room 335, San Diego, CA 92101 | San Diego County Public Works Department, Flood Control Division, 5201 Ruffin Road, Suite P, San Diego, CA 92123 | www.msc.fema.gov/lomc | December 13, 2013 | 060284
Colorado:
Adams | City of Thornton (13-08-0534P) | The Honorable Heidi Williams, Mayor, City of Thornton, 9500 Civic Center Drive, Thornton, CO 80229 | City Hall, 9500 Civic Center Drive, Thornton, CO 80229 | www.msc.fema.gov/lomc | November 29, 2013 | 080007
Adams | Unincorporated areas of Adams County (13-08-0534P) | The Honorable Eva J. Henry, Chair, Adams County Board of Commissioners, 4430 South Adams County Parkway, Suite C5000A, Brighton, CO 80601 | Adams County Public Works Department, 4430 South Adams County Parkway, Suite W2123, Brighton, CO 80601 | www.msc.fema.gov/lomc | November 29, 2013 | 080001
Arapahoe | City of Centennial (13-08-0357P) | The Honorable Cathy Noon, Mayor, City of Centennial, 13133 East Arapahoe Road, Centennial, CO 80112 | Southeast Metro Stormwater Authority, 76 Inverness Drive East, Suite A, Englewood, CO 80112 | http://www.bakeraecom.com/index.php/colorado/arapahoe/ | November 8, 2013 | 080315
Arapahoe | Unincorporated areas of Arapahoe County (13-08-0357P) | The Honorable Rod Bockenfeld, Chairman, Arapahoe County Board of Commissioners, 5334 South Prince Street, Littleton, CO 80166 | Arapahoe County Public Works and Development Department, 6924 South Lima Street, Centennial, CO 80112 | http://www.bakeraecom.com/index.php/colorado/arapahoe/ | November 8, 2013 | 080011
Eagle | Unincorporated areas of Eagle County (13-08-0339P) | The Honorable Jon Stavney, Chairman, Eagle County Board of Commissioners, P.O. Box 850, Eagle, CO 81631 | Eagle County Engineering Department, 500 Broadway Street, Eagle, CO 81631 | http://www.bakeraecom.com/index.php/colorado/eagle/ | October 18, 2013 | 080051
Grand | Town of Winter Park (13-08-0301P) | The Honorable Jim Myers, Mayor, Town of Winter Park, P.O. Box 3327, Winter Park, CO 80482 | Town Hall, 50 Vasquez Road, Winter Park, CO 80482 | www.msc.fema.gov/lomc | December 13, 2013 | 080305
Jefferson | City of Westminster (13-08-0141P) | The Honorable Nancy McNally, Mayor, City of Westminster, 4800 West 92nd Avenue, Westminster, CO 80031 | City Hall, 4800 West 92nd Avenue, Westminster, CO 80031 | www.msc.fema.gov/lomc | January 3, 2014 | 080008
Prowers | Unincorporated areas of Prowers County (13-08-0049P) | The Honorable Joe D. Marble, Chairman, Prowers County Board of Commissioners, 301 South Main Street, Lamar, CO 81052 | Prowers County Land Use Administrator, 301 South Main Street, Lamar, CO 81052 | http://www.bakeraecom.com/index.php/colorado/prowers | November 18, 2013 | 080272
Weld | Town of Frederick (12-08-1047P) | The Honorable Tony Carey, Mayor, Town of Frederick, P.O. Box 435, Frederick, CO 80530 | Planning Department, 401 Locust Street, Frederick, CO 80530 | www.msc.fema.gov/lomc | December 27, 2013 | 080244
Weld | Unincorporated areas of Weld County (12-08-0826P) | The Honorable William Garcia, Chairman, Weld County Board of Commissioners, P.O. Box 758, Greely, CO 80632 | Weld County Public Works Department, 1111 H Street, Greely, CO 80632 | www.msc.fema.gov/lomc | December 16, 2013 | 080266
Weld | Unincorporated areas of Weld County (12-08-1047P) | The Honorable William Garcia, Chairman, Weld County Board of Commissioners, P.O. Box 758, Greeley, CO 80632 | Weld County Public Works Department, 1111 H Street, Greeley, CO 80632 | www.msc.fema.gov/lomc | December 27, 2013 | 080266
Florida:
Broward | City of Hollywood (13-04-2560P) | The Honorable Peter J. M. Bober, Mayor, City of Hollywood, P.O. Box 229045, Hollywood, FL 33022 | City Hall, 2600 Hollywood Boulevard, Hollywood, FL 33020 | www.msc.fema.gov/lomc | December 20, 2013 | 125113
Broward | City of Hollywood (13-04-6046P) | The Honorable Peter J. M. Bober, Mayor, City of Hollywood, P.O. Box 229045, Hollywood, FL 33022 | City Hall, 2600 Hollywood Boulevard, Hollywood, FL 33020 | www.msc.fema.gov/lomc | December 6, 2013 | 125113
Charlotte | Unincorporated areas of Charlotte County (13-04-4141P) | The Honorable Christopher Constance, Chairman, Charlotte County Board of Commissioners, 18500 Murdock Circle, Port Charlotte, FL 33948 | Charlotte County Community Development Department, 18500 Murdock Circle, Port Charlotte, FL 33948 | www.msc.fema.gov/lomc | December 20, 2013 | 120061
Collier | City of Naples (13-04-3746P) | The Honorable John F. Sorey, III, Mayor, City of Naples, 735 8th Street South, Naples, FL 34102 | Community Development Building, 295 Riverside Circle, Naples, FL 34102 | www.msc.fema.gov/lomc | January 10, 2014 | 125130
Escambia | Pensacola Beach-Santa Rosa Island Authority (13-04-3378P) | The Honorable Thomas A. Campanella, DDS, Chairman, Pensacola Beach-Santa Rosa Island Authority Board of Commissioners, P.O. Box 1208, Pensacola Beach, FL 32562 | Pensacola Beach-Santa Rosa Island Authority Development Department, 1 Via De Luna Drive, Pensacola Beach, FL 32561 | www.msc.fema.gov/lomc | November 29, 2013 | 125138
Escambia | Unincorporated areas Escambia County (13-04-5544P) | The Honorable Gene M. Valentino, Chairman, Escambia County Board of Commissioners, 221 Palafox Place, Suite 400, Pensacola, FL 32502 | Escambia County Department of Planning and Zoning, 3363 West Park Place, Pensacola, FL 32505 | www.msc.fema.gov/lomc | December 6, 2013 | 120080
Lee | Town of Fort Myers Beach (13-04-3849P) | The Honorable Alan Mandel, Mayor, Town of Fort Myers Beach, 2523 Estero Boulevard, Fort Myers Beach, FL 33931 | Town Hall, 2523 Estero Boulevard, Fort Myers Beach, FL 33931 | www.msc.fema.gov/lomc | December 27, 2013 | 120673
Monroe | Unincorporated areas of Monroe County (13-04-3827P) | The Honorable George Neugent, Mayor, Monroe County, 1100 Simonton Street, Key West, FL 33040 | Monroe County Department of Planning and Environmental Resources, 2798 Overseas Highway, Marathon, FL 33050 | http://www.bakeraecom.com/index.php/florida/monroe-3/ | November 7, 2013 | 125129
Monroe | Unincorporated areas of Monroe County (13-04-4343P) | The Honorable George Neugent, Mayor, Monroe County, 1100 Simonton Street, Key West, FL 33040 | Monroe County Building Department, 2798 Overseas Highway, Marathon, FL 33050 | http://www.bakeraecom.com/index.php/florida/monroe-3/ | November 12, 2013 | 125129
Monroe | Unincorporated areas of Monroe County (13-04-5099P) | The Honorable George Neugent, Mayor, Monroe County, 1100 Simonton Street, Key West, FL 33040 | Monroe County Building Department, 2798 Overseas Highway, Marathon, FL 33050 | www.msc.fema.gov/lomc | January 10, 2014 | 125129
Monroe | Village of Islamorada (13-04-4008P) | The Honorable Ken Philipson, Mayor, Village of Islamorada, 86800 Overseas Highway, Islamorada, FL 33036 | Village Hall, 87000 Overseas Highway, Islamorada, FL 33036 | www.msc.fema.gov/lomc | November 22, 2013 | 120424
Orange | City of Orlando (12-04-5226P) | The Honorable Buddy Dyer, Mayor, City of Orlando, P.O. Box 4990, Orlando, FL 32808 | Permitting Services Department, 400 South Orange Avenue, Orlando, FL 32801 | www.msc.fema.gov/lomc | November 29, 2013 | 120186
Orange | City of Orlando (13-04-1624P) | The Honorable Buddy Dyer, Mayor, City of Orlando, P.O. Box 4990, Orlando, FL 32808 | Permitting Services Department, 400 South Orange Avenue, Orlando, FL 32801 | http://www.bakeraecom.com/index.php/florida/orange-2/ | November 8, 2013 | 120186
Osceola | Unincorporated areas of Osceola County (13-04-0941P) | The Honorable Frank Attkisson, Chairman, Osceola County Board of Commissioners, 1 Courthouse Square, Suite 4700, Kissimmee, FL 34741 | Osceola County Stormwater Section, 1 Courthouse Square, Suite 1400, Kissimmee, FL 34741 | www.msc.fema.gov/lomc | December 27, 2013 | 120189
Osceola | Unincorporated areas of Osceola County (13-04-2911P) | The Honorable Frank Attkisson, Chairman, Osceola County Board of Commissioners, 1 Courthouse Square, Suite 4700, Kissimmee, FL 34741 | Osceola County Stormwater Section, 1 Courthouse Square, Suite 1400, Kissimmee, FL 34741 | www.msc.fema.gov/lomc | December 13, 2013 | 120189
Pinellas | City of Treasure Island (13-04-4871P) | The Honorable Robert Minning, Mayor, City of Treasure Island, 120 108th Avenue, Treasure Island, FL 33706 | City Hall, Building Department, 120 108th Avenue, Treasure Island, FL 33706 | www.msc.fema.gov/lomc | November 28, 2013 | 125153
Sarasota | Town of Longboat Key (13-04-5092P) | The Honorable Jim Brown, Mayor, Town of Longboat Key, 501 Bay Isles Road, Longboat Key, FL 34228 | Planning, Zoning and Building Department, 501 Bay Isles Road, Longboat Key, FL 34228 | www.msc.fema.gov/lomc | January 10, 2014 | 125126
Sarasota | Unincorporated areas of Sarasota County (13-04-2683P) | The Honorable Carolyn Mason, Chair, Sarasota County Commission, 1660 Ringling Boulevard, Sarasota, FL 34236 | Sarasota County Operations Center, 1001 Sarasota Center Boulevard, Sarasota, FL 34236 | http://www.bakeraecom.com/index.php/florida/sarasota/ | November 8, 2013 | 125144
St. Johns County | Unincorporated areas of St. Johns County (13-04-0459P) | The Honorable Jay Morris, Chairman, St. Johns County Board of Commissioners, 500 San Sebastian View, St. Augustine, FL 32084 | St. Johns County Growth Management Department, 4040 Lewis Speedway, St. Augustine, FL 32084 | www.msc.fema.gov/lomc | December 16, 2013 | 125147
St. Johns County | Unincorporated areas of St. Johns County (13-04-3658P) | The Honorable Jay Morris, Chairman, St. Johns County Board of Commissioners, 500 San Sebastian View, St. Augustine, FL 32084 | St. Johns County Growth Management Department, 4040 Lewis Speedway, St. Augustine, FL 32084 | www.msc.fema.gov/lomc | December 13, 2013 | 125147
Georgia:
Columbia | Unincorporated areas of Columbia County (13-04-3713P) | The Honorable Ron C. Cross, Chairman, Columbia County Board of Commissioners, P.O. Box 498, Evans, GA 30809 | Columbia County Department of Planning and Engineering, P.O. Box 498, Evans, GA 30809 | www.msc.fema.gov/lomc | December 5, 2013 | 130059
Douglas | City of Douglasville (12-04-6718P) | The Honorable Harvey Persons, Mayor, City of Douglasville, P.O. Box 219, Douglasville, GA 30133 | City Hall, 6695 Church Street, Douglasville, GA 30134 | www.msc.fema.gov/lomc | December 19, 2013 | 130305
Douglas | Unincorporated areas of Douglas County (12-04-6718P) | The Honorable Tom Worthan, Chairman, Douglas County Board of Commissioners, 8700 Hospital Drive, 3rd Floor, Douglasville, GA 30134 | Douglas County Courthouse, 8700 Hospital Drive, Douglasville, GA 30134 | www.msc.fema.gov/lomc | December 19, 2013 | 130306
Long | Unincorporated areas of Long County (13-04-0292P) | The Honorable Robert C. Walker, Chairman, Long County Board of Commissioners, P.O. Box 476, Ludowici, GA 31316 | Long County Code Enforcement Department, 459 South McDonald Street, Ludowici, GA 31316 | www.msc.fema.gov/lomc | January 2, 2014 | 130127
Hawaii:
Hawaii | Hawaii County (13-09-2122P) | The Honorable William P. Kenoi, Mayor, County of Hawaii, 25 Aupuni Street, Hilo, HI 96720 | Hawaii County Public Works Department, 101 Pauahi Street, Suite 7, Hilo, HI 96720 | www.msc.fema.gov/lomc | December 16, 2013 | 155166
Honolulu | City and County of Honolulu (13-09-1536P) | The Honorable Kirk Caldwell, Mayor, City and County of Honolulu, 530 South King Street, Honolulu, HI 96813 | Department of Planning and Permitting, 650 South King Street, Honolulu, HI 96813 | www.msc.fema.gov/lomc | January 3, 2014 | 150001
Kentucky:
Hopkins | City of Dawson Springs (13-04-6193P) | The Honorable Jenny Sewell, Mayor, City of Dawson Springs, 200 West Arcadia Avenue, Dawson Springs, KY 42408 | Hopkins County Courthouse, 10 South Main Street, Room 12, Madisonville, KY 42431 | www.msc.fema.gov/lomc | January 10, 2014 | 210113
Hopkins | Unincorporated areas of Hopkins County (13-04-6193P) | The Honorable Donald E. Carroll, Hopkins County Judge Executive, 56 North Main Street, Madisonville, KY 42431 | Hopkins County Courthouse, 10 South Main Street, Room 12, Madisonville, KY 42431 | www.msc.fema.gov/lomc | January 10, 2014 | 210112
Jefferson | Louisville-Jefferson County Metro Government (13-04-4613P) | The Honorable Greg Fisher, Mayor, Louisville-Jefferson County Metro Government, 527 West Jefferson Street, Louisville, KY 40202 | Louisville-Jefferson County Metropolitan Sewer District, 700 West Liberty Street, Louisville, KY 40203 | www.msc.fema.gov/lomc | December 6, 2013 | 210120
Montana:
Lincoln | Unincorporated areas of Lincoln County (13-08-0330P) | The Honorable Tony Berget, Chairman, Lincoln County Board of Commissioners, 512 California Avenue, Libby, MT 59923 | Lincoln County Emergency Management Department, 925 East Spruce Street, Libby, MT 59923 | www.msc.fema.gov/lomc | December 9, 2013 | 300157
Yellowstone | Unincorporated areas of Yellowstone County (13-08-0535P) | The Honorable Jim Reno, Chairman, Yellowstone County Board of Commissioners, P.O. Box 35000, Billings, MT 59107 | Yellowstone County Courthouse, 217 North 27th Street, Billings, MT 59101 | www.msc.fema.gov/lomc | January 3, 2014 | 300142
Nevada:
Clark | City of Henderson (13-09-1602P) | The Honorable Andy A. Hafen, Mayor, City of Henderson, Henderson City Hall, P.O. Box 95050, Henderson, NV 89009 | Public Works Department, 240 Water Street, Henderson, NV 89015 | http://www.r9map.org/Docs/13-09-1602P-320005.pdf | November 1, 2013 | 320005
Clark | City of Henderson (13-09-1966P) | The Honorable Andy Hafen, Mayor, City of Henderson, P.O. Box 95050, Henderson, NV 89009 | Public Works Department, 240 Water Street, Henderson, NV 89015 | www.msc.fema.gov/lomc | November 29, 2013 | 320005
Douglas | Unincorporated areas of Douglas County (13-09-2041P) | The Honorable Greg Lynn, Chairman, Douglas County Board of Commissioners, P.O. Box 218, Minden, NV 89423 | Douglas County Public Community Development Building, Planning Division, 1594 Ismeralda Avenue, Minden, NV 89423 | www.msc.fema.gov/lomc | January 27, 2014 | 320008
North Carolina:
Buncombe | City of Asheville (13-04-4986P) | The Honorable Terry M. Bellamy, Mayor, City of Asheville, P.O. Box 7148, Asheville, NC 28802 | Development Services Department, 161 South Charlotte Street, Asheville, NC 28801 | http://www.ncfloodmaps.com/fhd.htm | November 12, 2013 | 370032
Davie | Unincorporated areas of Davie County (12-04-4913P) | The Honorable Beth Dirks, Davie County Manager, 123 South Main Street, 2nd Floor, Mocksville, NC 27028 | Davie County Development Services Department, 298 East Depot Street, Suite 100, Mocksville, NC 27028 | http://www.ncfloodmaps.com/fhd.htm | November 15, 2013 | 370308
Forsyth | City of Winston-Salem (11-04-3398P) | The Honorable Allen Joines, Mayor, City of Winston-Salem, 101 North Main Street, Suite 150, Winston-Salem, NC 27101 | Inspections Department, 100 East 1st Street, Suite 328, Winston-Salem, NC 27101 | http://www.ncfloodmaps.com/fhd.htm | October 15, 2013 | 375360
Haywood | Unincorporated areas of Haywood County (13-04-3050P) | The Honorable Mark Swanger, Chairman, Haywood County Board of Commissioners, 215 North Main Street, Waynesville, NC 28786 | Haywood County Planning Office, 1233 North Main Street, Waynesville, NC 28786 | www.msc.fema.gov/lomc | November 19, 2013 | 370120
Wake | Town of Cary (12-04-3992P) | The Honorable Harold Weinbrecht, Mayor, Town of Cary, P.O. Box 8005, Cary, NC 27512 | Stormwater Services Office, 316 North Academy Street, Cary, NC 27513 | http://www.ncfloodmaps.com/fhd.htm | November 7, 2013 | 370238
South Carolina:
Horry | City of North Myrtle Beach (13-04-2856P) | The Honorable Marilyn Hatley, Mayor, City of North Myrtle Beach, 1018 2nd Avenue South, North Myrtle Beach, SC 29582 | Planning and Development Department, 1018 2nd Avenue South, North Myrtle Beach, SC 29582 | www.msc.fema.gov/lomc | November 29, 2013 | 450110
Lee | City of Bishopville (13-04-1422P) | The Honorable Alexander C. Boyd, Mayor, City of Bishopville P.O. Box 388, Bishopville, SC 29010 | City Hall, 135 East Church Street, Bishopville, SC 29010 | www.msc.fema.gov/lomc | January 23, 2014 | 450127
Lee | Unincorporated areas of Lee County (13-04-1422P) | The Honorable R. Travis Windham, Chairman, Lee County Board of Commissioners, P.O. Box 545, Bishopville, SC 29010 | Bishopville City Hall, 135 East Church Street, Bishopville, SC 29010 | www.msc.fema.gov/lomc | January 23, 2014 | 450126
Washington: Spokane | City of Cheney (13-10-0843P) | The Honorable Tom Trulove, Mayor, City of Cheney, 609 2nd Street, Cheney, WA 99004 | Public Works Department, 112 Anderson Road, Cheney, WA 99004 | www.msc.fema.gov/lomc | December 6, 2013 | 530175

(Catalog of Federal Domestic Assistance No. 97.022, “Flood Insurance.”)

Dated: November 20, 2013.
Roy Wright,
Deputy Associate Administrator for Mitigation, Department of Homeland Security, Federal Emergency Management Agency.

[FR Doc. 2013-29035 Filed 12-3-13; 8:45 am]

BILLING CODE 9110-12-P